FEDERAL ENERGY REGULATORY COMMISSION

Sunshine Act Meeting Notice

The following notice of meeting is published pursuant to section 3(a) of the government in the Sunshine Act (Pub. L. 94-409), 5 U.S.C. 552b:

AGENCY HOLDING MEETING: Federal Energy Regulatory Commission.

DATE AND TIME: January 16, 2014, 10:00 a.m.

PLACE: Room 2C, 888 First Street NE., Washington, DC 20426.

STATUS: Open.

MATTERS TO BE CONSIDERED: Agenda. * Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1001st—Meeting
[Regular Meeting, January 16, 2014, 10:00 a.m.]
Item No. | Docket No. | Company
ADMINISTRATIVE
A-1 | AD02-1-000 | Agency Business Matters.
A-2 | AD02-7-000 | Customer Matters, Reliability, Security and Market Operations.
A-3 | AD13-9-000 | Hydropower Regulatory Efficiency Act of 2013.
A-4 | AD14-5-000 | Recent Weather Effects on the Bulk Power System.
ELECTRIC
E-1 | ER14-329-000 | ISO New England Inc.
E-2 | RM13-11-000 | Frequency Response and Frequency Bias Setting Reliability Standard.
E-3 | RM14-1-000 | Reliability Standard for Geomagnetic Disturbance Operations.
E-4 | RD13-12-000 | North American Electric Reliability Corporation.
E-5 | EC13-26-001 | Ohio Power Company. AEP Generation Resources, Inc.
E-6 | OMITTED
E-7 | OMITTED
E-8 | OMITTED
E-9 | EL12-11-001 | Rail Splitter Wind Farm, LLC v. Ameren Services Company and Midwest Independent Transmission System Operator, Inc.
E-10 | EL13-84-001 | Kansas Municipal Energy Agency v. Sunflower Electric Power Corporation, Mid-Kansas Electric Company, LLC, Southwest Power Pool, Inc.
GAS
G-1 | RP13-874-001 | Portland Natural Gas Transmission System
CERTIFICATES
C-1 | CP13-545-000 | Dominion Transmission, Inc. and Tennessee Gas Pipeline Company, L.L.C.

Issued January 9, 2014.
Kimberly D. Bose,
Secretary.

A free Webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2014-00573 Filed 1-10-14; 11:15 am]

BILLING CODE 6717-01-P